DEPARTMENT OF DEFENSE

Department of the Air Force

Local Redevelopment Authority and Available Surplus Buildings and Land at Davis Communications Site, Located in Yolo County, CA

AGENCY: Department of the Air Force, Air Force Real Property Agency, DoD.

ACTION: Notice.

SUMMARY: This notice provides information regarding the surplus property at Davis Communications Site in Yolo County, California and information about the local redevelopment authority that has been established to plan the reuse of the Davis Communications Site. The property is located approximately 3 miles southeast of Davis, California. The site is accessible from Mace Boulevard, south of Interstate Highway 80.

FOR FURTHER INFORMATION CONTACT: For further information regarding the property, contact Mr. Dexter Cochnauer, Senior Representative, or Ms. Linda Brophy, Real Estate Specialist, Air Force Real Property Agency, 3411 Olson Street, McClellan, CA 95652-1003, telephone (916) 643-6420.

SUPPLEMENTARY INFORMATION: This surplus property is available under the provisions of the Federal Property and Administrative Services Act of 1949 as amended (40 U.S.C. 501 et seq.) and the Base Closure Community Redevelopment and Assistance Act of 1994.

Notice of Surplus Property: Pursuant to paragraph (7)(B) of section 2905(b) of the Defense Base Closure and Realignment Act of 1990, as amended by the Base Closure Community Redevelopment and Homeless Assistance Act of 1994 (Pub. L. 103-421), the following information regarding the surplus property is described herein.

Local Redevelopment Authority: The local redevelopment authority for the Davis Communications Site, Davis, CA for purposes of implementing the provisions of the Defense Base Closure and Realignment Act of 1990 as amended, is the Yolo County Board of Supervisors. All inquiries should be addressed to Ms. Holly Malcolm, Yolo County Planning and Public Works Department, 292 West Beamer Street, Woodland, CA 95695, telephone 530-666-8029.

Surplus Property Description: Land: The property consists of approximately 311 acres of land.

Buildings/Structures: Consists of a communication building (approximately 26,064 sq. ft.) with associated utility facilities and associated communication antenna pads.

Expressions of Interest: Pursuant to paragraph 7(C) of Section 2905(b) of the Defense Base Closure and Realignment Act of 1990, as amended by the Base Closure and Community Redevelopment and Homeless Assistance Act of 1994, state and local governments, representatives of the homeless, and other interested parties located in the vicinity of Davis Communications Site, Davis, CA shall submit to the Yolo County Planning and Public Works Department, 292 West Beamer Street, Woodland, CA 95695, a notice of interest, of such governments, representatives, and parties in the above described surplus property, or any portion thereof. A notice shall describe the need of the government, representative, or party concerned, for the desired surplus property. Pursuant to paragraph 7(C) of Section 2905(b), the Yolo County Department of Planning and Public Works shall assist interested parties in evaluating the surplus property for the intended use, and publish in a newspaper of general circulation within California, the date by which expressions of interest must be submitted, which shall be ninety (90) days from the date of publication of this notice.

Bao-Ahn Trinh,
Air Force Federal Register Liaison Officer.

[FR Doc. E6-2212 Filed 2-15-06; 8:45 am]

BILLING CODE 5001-05-P